DEPARTMENT OF TRANSPORTATION

Federal Aviation Administration

14 CFR Part 97

[Docket No. 31055; Amdt. No. 3677]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 3, 2016. The compliance date for each SIAP, associated Takeoff Minimums, and ODP is specified in the amendatory provisions.

The incorporation by reference of certain publications listed in the regulations is approved by the Director of the Federal Register as of February 3, 2016.

ADDRESSES: Availability of matters incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125), Telephone: 405-954-4164.

SUPPLEMENTARY INFORMATION: This rule amends Title 14 of the Code of Federal Regulations, Part 97 (14 CFR part 97), by establishing, amending, suspending, or removes SIAPs, Takeoff Minimums and/or ODPs. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPs, Takeoff Minimums and/or ODPs as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97:

Air traffic control, airports, Incorporation by reference, Navigation (air).

Issued in Washington, DC on December 31, 2015.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

Part 97—Standard Instrument Approach Procedures

1. The authority citation for part 97 continues to read as follows:

Authority: 49 U.S.C. 106(f), 106(g), 40103, 40106, 40113, 40114, 40120, 44502, 44514, 44701, 44719, 44721-44722.

2. Part 97 is amended to read as follows:

Effective 4 FEBRUARY 2016

Gulkana, AK, Gulkana, VOR/DME RWY 33, Orig, CANCELED

Kotzebue, AK, Ralph Wien Memorial, VOR/DME RWY 9, Orig-B

Kotzebue, AK, Ralph Wien Memorial, VOR/DME Y RWY 27, Orig, CANCELED

Yakutat, AK, Yakutat, VOR/DME RWY 11, Amdt 3A, CANCELED

Harrison, AR, Boone County, VOR-A, Amdt 13, CANCELED

Rogers, AR, Rogers Executive—Carter Field, NDB RWY 20, Amdt 1A, CANCELED

Sheridan, AR, Sheridan Muni, RNAV (GPS) RWY 1, Orig

Los Angeles, CA, Los Angeles Intl, ILS OR LOC RWY 6, Amdt 17C, SUSPENDED

Los Angeles, CA, Los Angeles Intl, RNAV (GPS) Y RWY 6R, Amdt 1B, SUSPENDED

Los Angeles, CA, Los Angeles Intl, RNAV (RNP) Z RWY 6R, Orig-B, SUSPENDED

Sacramento, CA, McClellan Airfield, VOR/DME RWY 16, Orig-C, CANCELED

San Jose, CA, Norman Y Mineta San Jose Intl, VOR RWY 12R, Amdt 5, CANCELED

San Jose, CA, Norman Y Mineta San Jose Intl, VOR/DME RWY 30L, Amdt 3, CANCELED

San Jose, CA, Norman Y Mineta San Jose Intl, VOR/DME RWY 30R, Amdt 1, CANCELED

New Haven, CT, Tweed-New Haven, VOR-A, Amdt 3, CANCELED

Umatilla, FL, Umatilla Muni, RNAV (GPS) RWY 19, Orig-B

Pohnpei Island, FM, Pohnpei Intl, RNAV (RNP) Y RWY 9, Orig

Pohnpei Island, FM, Pohnpei Intl, RNAV (RNP) Z RWY 9, Orig

Jefferson, GA, Jackson County, RNAV (GPS) RWY 17, Amdt 3

Jefferson, GA, Jackson County, RNAV (GPS) RWY 35, Amdt 3

Jefferson, GA, Jackson County, Takeoff Minimums and Obstacle DP, Amdt 3

Macon, GA, Macon Downtown, VOR/DME-B, Amdt 3, CANCELED

Nashville, GA, Berrien CO, GPS RWY 10, Orig-B, CANCELED

Nashville, GA, Berrien CO, RNAV (GPS) RWY 10, Orig

Nashville, GA, Berrien CO, RNAV (GPS) RWY 28, Orig

Tifton, GA, Henry Tift Myers, VOR RWY 33, Amdt 11C, CANCELED

Waycross, GA Waycross-Ware County, ILS Y OR LOC Y RWY 19, Orig

Waycross, GA Waycross-Ware County, ILS Z OR LOC Z RWY 19, Amdt 3

Waycross, GA Waycross-Ware County, RNAV (GPS) RWY 1, Amdt 2

Waycross, GA Waycross-Ware County, RNAV (GPS) RWY 19, Amdt 2

Waycross, GA Waycross-Ware County, Takeoff Minimums and Obstacle DP, Amdt 2

Sibley, IA, Sibley Muni, NDB OR GPS RWY 17, Amdt 1C, CANCELED

Waterloo, IA, Waterloo Rgnl, VOR/DME RWY 30, Amdt 15, CANCELED

Twin Falls, ID, Joslin Field—Magic Valley Rgnl, NDB RWY 26, Amdt 7, CANCELED

Olney-Noble, IL, Olney-Noble, NDB RWY 3, Amdt 14

Olney-Noble, IL, Olney-Noble, RNAV (GPS) RWY 3, Orig-B

Olney-Noble, IL, Olney-Noble, RNAV (GPS) RWY 11, Amdt 1B

Rochelle, IL, Rochelle Muni Airport-Koritz Field, Takeoff Minimums and Obstacle DP, Amdt 4

Indianapolis, IN, Eagle Creek Airpark, NDB RWY 21, Amdt 4, CANCELED

Nappanee, IN, Nappanee Muni, VOR/DME OR GPS-A, Amdt 3B, CANCELED

Terra Haute, IN, Sky King, VOR-B, Orig-B, CANCELED

Goodland, KS, Renner Fld/Goodland Muni/, VOR/DME RWY 30, Amdt 8B, CANCELED

Richmond, KY, Madison, RNAV (GPS) RWY 18, Amdt 1C

Richmond, KY, Madison, RNAV (GPS) RWY 36, Amdt 2A

Abbeville, LA, Abbeville Chris Crusta Memorial, VOR/DME-A, Amdt 2B, CANCELED

New Roads, LA, False River Rgnl, VOR/DME-A, Amdt 4A, CANCELED

Fitchburg, MA, Fitchburg Muni, RNAV (GPS) RWY 20, Orig-C

Lawrence, MA, Lawrence Muni, NDB RWY 5, Amdt 6, CANCELED

Bangor, ME, Bangor Intl, VOR/DME RWY 15, Amdt 4A, CANCELED

Bangor, ME, Bangor Intl, VOR/DME RWY 33, Amdt 7, CANCELED

Hancock, MI, Houghton County Memorial, VOR RWY 31, Amdt 14A, CANCELED

Ironwood, MI, Gogebic-Iron County, VOR/DME RWY 27, Amdt 9, CANCELED

Marquette, MI, Sawyer Intl, NDB RWY 1, Orig-B, CANCELED

Marquette, MI, Sawyer Intl, VOR RWY 1, Orig, CANCELED

Pellston, MI, Pellston Rgnl Airport of Emmet County, VOR/DME RWY 5, Amdt 12A, CANCELED

Sault Ste Marie, MI, Chippewa County Intl, VOR-A, Amdt 7, CANCELED

Marshall, MN, Southwest Minnesota Rgnl Marshall/Ryan Fld, VOR/DME RWY 30, Amdt 2B, CANCELED

Minneapolis, MN, Anoka County-Blaine Arpt (Janes Field), VOR/DME RWY 27, Amdt 5, CANCELED

Owatonna, MN, Owatonna Degner Rgnl, VOR/DME RWY 30, Amdt 4, CANCELED

Thief River Falls, MN, Thief River Falls Rgnl, VOR/DME RWY 31, Amdt 3C, CANCELED

Kirksville, MO, Kirksville Rgnl, VOR/DME-B, Amdt 7, CANCELED

Sikeston, MO, Sikeston Memorial Muni, VOR/DME RWY 2, Amdt 3A, CANCELED

Greensboro, NC, Piedmont Triad Intl, VOR RWY 5R, Amdt 13B, CANCELED

Beatrice, NE., Beatrice Muni, VOR RWY 14, Amdt 18B, CANCELED

Manchester, NH, Manchester, VOR/DME RWY 17, Orig-E, CANCELED

Trenton, NJ, Trenton Mercer, RNAV (GPS) RWY 16, Orig-B

Trenton, NJ, Trenton Mercer, RNAV (GPS) RWY 34, Orig-B

Silver City, NM, Grant County, VOR/DME-B, Amdt 3B, CANCELED

Ely, NV, Ely Arpt/Yelland Fld/, VOR-A, Amdt 7A, CANCELED

Binghamton, NY, Greater Binghamton/Edwin A Link Field, VOR/DME RWY 28, Amdt 11A, CANCELED

Plattsburgh, NY, Plattsburgh Intl, ILS OR LOC RWY 35, Amdt 1

Plattsburgh, NY, Plattsburgh Intl, RNAV (GPS) RWY 35, Amdt 2

Plattsburgh, NY, Plattsburgh Intl, VOR/DME RWY 35, Orig-B, CANCELED

Poughkeepsie, NY, Dutchess County, VOR/DME RWY 6, Amdt 7B, CANCELED

Batavia, OH, Clermont County, NDB RWY 22, Amdt 1C, CANCELED

Dayton, OH, James M Cox Dayton Intl, NDB RWY 6R, Amdt 9, CANCELED

Bartlesville, OK, Bartlesville Muni, LOC RWY 17, Amdt 3B

Bartlesville, OK, Bartlesville Muni, RNAV (GPS) RWY 17, Amdt 1

Bartlesville, OK, Bartlesville Muni, RNAV (GPS) RWY 35, Amdt 1

Chickasha, OK, Chickasha Muni, RNAV (GPS) RWY 18, Amdt 1A

Chickasha, OK, Chickasha Muni, RNAV (GPS) RWY 36, Amdt 1A

Claremore, OK, Claremore Regional, VOR/DME-A, Amdt 2A, CANCELED

Durant, OK, Durant Rgnl—Eaker Field, VOR/DME RWY 17, Orig, CANCELED

Eagle Butte, SD, Cheyenne Eagle Butte, Takeoff Minimums and Obstacle DP, Orig-A

Watertown, SD, Watertown Rgnl, VOR/DME OR TACAN RWY 35, Amdt 11B, CANCELED

Castroville, TX, Castroville Muni, RNAV (GPS) RWY 16, Amdt 1A

Corsicana, TX, C David Campbell Field-Corsicana Muni, VOR/DME-B, Amdt 1B, CANCELED

Dallas-Fort Worth, TX, Dallas/Fort Worth Intl, VOR RWY 31L, Orig-C, CANCELED

Del Rio, TX, Del Rio Intl, NDB RWY 13, Amdt 1, CANCELED

Granbury, TX, Granbury Rgnl, VOR/DME-A, Orig-C, CANCELED

Houston, TX, William P Hobby, VOR/DME RWY 4, Amdt 18A, CANCELED

Houston, TX, William P Hobby, VOR/DME RWY 30L, Amdt 18A, CANCELED

Houston, TX, William P Hobby, VOR/DME-E, Orig, CANCELED

Longview, TX, East Texas Rgnl, NDB RWY 13, Amdt 15, CANCELED

Sulphur Springs, TX, Sulphur Springs Muni, VOR-A, Amdt 4, CANCELED

Wichita Falls, TX, Wichita Valley, VOR/DME-C, Amdt 2, CANCELED

Salt Lake City, UT, Salt Lake City Intl, VOR/DME RWY 34R, Amdt 9A, CANCELED

Salt Lake City, UT, Salt Lake City Intl, VOR/DME OR TACAN RWY 16L, Amdt 2, CANCELED

Salt Lake City, UT, Salt Lake City Intl, VOR/DME OR TACAN RWY 17, Amdt 2A, CANCELED

Newport News, VA, Newport News/Williamsburg Intl, NDB RWY 20, Amdt 5A, CANCELED

Norfolk, VA, Norfolk Intl, VOR RWY 23, Amdt 8D, CANCELED

Norfolk, VA, Norfolk Intl, VOR/DME RWY 5, Amdt 4D, CANCELED

Rutland, VT, Rutland—Southern Vermont Rgnl, VOR/DME RWY 19, Amdt 1, CANCELED

Bremerton, WA, Bremerton National, RNAV (GPS) RWY 2, Amdt 2

Burlington/Mount Vernon, WA, Skagit Rgnl, NDB RWY 11, Amdt 5A

Burlington/Mount Vernon, WA, Skagit Rgnl, RNAV (GPS) RWY 11, Amdt 2A

Burlington/Mount Vernon, WA, Skagit Rgnl, RNAV (GPS) RWY 29, Amdt 2

Burlington/Mount Vernon, WA, Skagit Rgnl, Takeoff Minimums and Obstacle DP, Amdt 2A

Hoquiam, WA, Bowerman, VOR/DME RWY 24, Amdt 6B, CANCELED

Walla Walla, WA, Walla Walla Rgnl, NDB RWY 20, Amdt 6A, CANCELED

Green Bay, WI, Austin Straubel Intl, VOR/DME OR TACAN RWY 36, Amdt 10, CANCELED

La Crosse, WI, La Crosse Rgnl, NDB RWY 18, Amdt 19B, CANCELED

Madison, WI, Dane County Rgnl-Truax Field, ILS OR LOC RWY 21, Orig-C

Madison, WI, Dane County Rgnl-Truax Field, ILS OR LOC/DME RWY 18, ILS RWY 18 (SA CAT I), ILS RWY 18 (SA CAT II), Amdt 2

Madison, WI, Dane County Rgnl-Truax Field, ILS OR LOC/DME RWY 36, ILS RWY 36 (SA CAT I), ILS RWY 36 (CAT II), ILS RWY 36 (CAT III), Amdt 2

Madison, WI, Dane County Rgnl-Truax Field, RADAR-1, Amdt 18

Madison, WI, Dane County Rgnl-Truax Field, RNAV (GPS) RWY 3, Orig-C

Madison, WI, Dane County Rgnl-Truax Field, RNAV (GPS) RWY 14, Amdt 2E

Madison, WI, Dane County Rgnl-Truax Field, RNAV (GPS) RWY 18, Amdt 2E

Madison, WI, Dane County Rgnl-Truax Field, RNAV (GPS) RWY 21, Amdt 2C

Madison, WI, Dane County Rgnl-Truax Field, RNAV (GPS) RWY 32, Amdt 2E

Madison, WI, Dane County Rgnl-Truax Field, RNAV (GPS) RWY 36, Amdt 2D

Madison, WI, Dane County Rgnl-Truax Field, Takeoff Minimums and Obstacle DP, Amdt 8A

Mosinee, WI, Central Wisconsin, VOR OR GPS-A, Amdt 8A, CANCELED

[FR Doc. 2016-01857 Filed 2-2-16; 8:45 am]

BILLING CODE 4910-13-P